DEPARTMENT OF TRANSPORTATION

Federal Aviation Administration

Notice of Intent To Rule on Application 03-03-C-00-RAP To Impose and Use the Revenue From a Passenger Facility Charge (PFC) at Rapid City Regional Airport, Rapid City, SD

AGENCY: Federal Aviation Administration (FAA), DOT.

ACTION: Notice of Intent to Rule on Application.

SUMMARY: The FAA proposes to rule and invites public comment on the application to impose and use the revenue from a PFC at Rapid City Regional Airport under the provisions of the 49 U.S.C. 40117 and part 158 of the Federal Aviation Regulations (14 CFR part 158).

DATES: Comments must be received on or before July 9, 2003.

ADDRESSES: Comments on this application may be mailed or delivered in triplicate to the FAA at the following address: Bismarck Airports District Office, 2301 University Drive, Building 23B, Bismarck, North Dakota.

In addition, one copy of any comments submitted to the FAA must be mailed or delivered to Mr. Ken Simmons, Assistant Director of the City of Rapid City—Rapid City Regional Airport at the following address: 300 Sixth Street, Rapid City, South Dakota 57701.

Air carries and foreign air carriers may submit copies of written comments previously provided to the City of Rapid City under section 158.23 of Part 158.

FOR FURTHER INFORMATION CONTACT: Mr. Thomas T. Schauer, Program Manager, Bismarck Airports District Office, 2301 University Drive, Building 23B, Bismarck, North Dakota 58504, (701) 323-7380. The application may be reviewed in person at this same location.

SUPPLEMENTARY INFORMATION: The FAA proposes to rule and invites public comments on the application to impose and use the revenue from a PFC at the Rapid City Regional Airport under the provisions of the 49 U.S.C. 40117 and part 158 of the Federal Aviation Regulations (14 CFR part 158). On May 22, 2003, the FAA determined that the application to impose and use the revenue from a PFC submitted by City of Rapid City was substantially complete within the requirements of section 158.25 of part 158. The FAA will approve or disapprove the application, in whole or in part, no late than August 21, 2003.

The following is brief overview of the application.

Proposed charge effective date: August 1, 2003.

Proposed charge expiration date: July 31, 2006.

Level of the proposed PFC: $3.00.

Total estimated PFC revenue: $1,591,925.

Brief description of proposed project: General Aviation Ramp Rehabilitation, Runway Safety Area (RSA) Preliminary Design, Wildlife Assessment, Cargo/Carrier Ramp Expansion, Terminal Apron Lighting, Runway 14/32 RSA Correction Projects, Airport Layout Plan Update, Terminal Building Master Plan, Taxiway A Realignment Feasibility Study, Aircraft Rescue and Fire Fighting Station Sprinkler, Continuous Friction Measuring Equipment, Replace Terminal Revolving Doors, Pavement Surface Condition Sensor, Terminal Roof Rehabilitation, Security System Upgrade, Runway 5/23 Rehabilitation, Taxiway B Rehabilitation, Passenger Loading Bridge, Covered Passenger Walkway to Terminal, Terminal Building Heating Ventilation Air conditioning and Sidewalk Rehabilitation, Covered Boarding Walkway.

Class or classes of air carriers, which the public agency has requested, not be required to collect PFCs: Air Taxi/Commercial Operators Filing FAA Form 1800-31.

Any person may inspect the application in person at he FAA office listed above under FOR FURTHER INFORMATION CONTACT.

In addition, any person may, upon request, inspect the application, notice and other documents germane to the application in person at the City of Rapid City.

Issued in Des Plaines, Illinois on June 2, 2003.
Robert A. Huber,
Acting Manager, Planning and Programming Branch, Airports Division, Great Lakes Region.

[FR Doc. 03-14428 Filed 6-6-03; 8:45 am]

BILLING CODE 4910-13-M